FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, FR 27—New Hire Information Collection.

DATES: The revisions are effective December 6, 2021.

FOR FURTHER INFORMATION CONTACT:

Federal Reserve Board Clearance Officer—Nuha Elmaghrabi—Office of the Chief Data Officer, Board of Governors of the Federal Reserve System, Washington, DC 20551, (202) 452-3829.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements, and approved collection of information instrument(s) are available at https://www.reginfo.gov/public/do/PRAMain. These documents are also available on the Federal Reserve Board's public website at https://www.federalreserve.gov/apps/reportforms/review.aspx or may be requested from the agency clearance officer, whose name appears above.

Final Approval Under OMB Delegated Authority of the Extension for Three Years, With Revision, of the Following Information Collection

Report title: New Hire Information Collection.

Agency form number: FR 27.

OMB control number: 7100-0375.

Effective Date of Revisions: December 6, 2021.

Frequency: As needed.

Respondents: The FR 27 panel comprises individuals who are new hires to the Board but have not yet become employees.

Estimated number of respondents: Regular hire: 312; intern hire: 122; federal transfer: 10.

Estimated average hours per response: Regular hire: 1; intern hire: 0.75; federal transfer: 1.08.

Estimated annual burden hours: Regular hire: 312; intern hire: 92; federal transfer: 11.

General description of report: This information collection provides for the electronic collection of certain personnel information from new hires using a secure web-based portal, the “New Hire Portal,” before the first day of employment of a new hire. As part of the onboarding process for new hires, a Human Resources professional at the Board identifies the necessary information that must be collected from the new hire, which is dependent upon whether the person will be starting as a full- or part-time employee, including a Governor or Board officer (Regular Hire) or starting as an intern (Intern Hire), or whether the Regular Employee is transferring from another federal agency (Federal Transfer). The new hire is then sent an email asking him or her to provide the information described below through the New Hire Portal prior to their official start date.

The New Hire Portal is broken out into different sections and each section corresponds to the hardcopy forms that new employees previously filled out and provide to the Board during or after the first day of new employee orientation (NEO). Thus, the information collection involves a new hire electronically providing this personnel information and filling out the applicable sections of the New Hire Portal before their first day of orientation. The sections of the portal that each new hire is asked to complete electronically depends upon the type of position that the new hire has been offered at the Board.

Legal authorization and confidentiality: The New Hire Information Collection is authorized pursuant to sections 10(3), 10(4), 11(l), and 11(q) of the Federal Reserve Act, which provide the Board broad authority over employment of staff and security of its building.¹ In addition, Executive Order 9397 (Nov. 22, 1943) authorizes Federal agencies to use an individual's social security number to identify individuals in agency records.

¹ 12 U.S.C. 243, 244, 248(l), and 248(q).

Providing information collected as part of the New Hire Information Collection is voluntary. However, if certain information requested as part of the New Hire Information Collection is not provided by the new hire, the hiring process cannot be completed.²

² The voluntary provision of the following information is optional and is not required to complete the hiring process: Education information (e.g., name of educational institution, major, degree, year of graduation), race, ethnicity, and the identity of and relationship to any relatives who are also employed at the Board. Although a new hire is required to provide the name and contact information of one “primary” emergency contact, providing a “second” emergency contact is optional and is not required to complete the hiring process. A new hire can also voluntarily provide an alternative mailing address, if it is different from his or her current address. Lastly, although not required to complete the hiring process, information on dependents is required to obtain certain benefits (such as continuing health insurance benefits for the child or spouse of a new employee who is transferring from another federal agency).

Generally, information collected as part of the New Hire Information Collection may be kept confidential from the public under exemption 6 of the Freedom of Information Act (FOIA), which protects information that “would constitute a clearly unwarranted invasion of personal privacy.” ³ However, the release of information such as the educational history of the new hire or the start date of employment would not likely constitute a clearly unwarranted invasion of personal privacy and may be disclosed under the FOIA.

³ 5 U.S.C. 552(b)(6).

Determinations regarding disclosure to third parties of any confidential portions of the information collection that are considered exempt under the FOIA will be made in accordance with the Privacy Act.⁴ Relevant Privacy Act statements are provided when a respondent logs in to the portal and before the respondent is asked to provide any information. The Board may make disclosures in accordance with the Privacy Act's routine use disclosure provision, which permits the disclosure of a record for a purpose which is compatible with the purpose for which the record was collected.⁵

⁴ 5 U.S.C. 552a(b).

⁵ 5 U.S.C. 552a(a)(7) and (b)(3)).

Such routine uses are listed in specific systems of records notices, which apply to this information collection and which can be found in: (1) The System of Records Notice for BGFRS-1, FRB-Recruiting and Placement Records, located at: https://www.federalreserve.gov/files/BGFRS-1-recruiting-and-placement-records.pdf; (2) the System of Records Notice for BGFRS-4, FRB-General Personnel Records, located at: https://www.federalreserve.gov/files/BGFRS-4-general-personnel-records.pdf; (3) the System of Records Notice for BGFRS-7, FRB—Payroll and Leave Records, located at: https://www.federalreserve.gov/files/BGFRS-7-payroll-and-leave-records.pdf; (4) the System of Records Notice for BGFRS-24, FRB—EEO General Files, located at: https://www.federalreserve.gov/files/BGFRS-24-eeo-general-files.pdf; and/or (5) the System of Records Notice for BGFRS-34, FRB-ESS Staff Identification Card File, located at: https://www.federalreserve.gov/files/BGFRS-34-ess-staff-identification-card-file.pdf.

Current actions: On May 25, 2021, the Board published a notice in the Federal Register (86 FR 28107) requesting public comment for 60 days on the extension with revision, of the New Hire Information Collection (FR 27). The revisions remove certain fields from the information collected on this form regarding direct deposits. The comment period for this notice expired on July 26, 2021.The Board did not receive any comments. The revisions will be implemented as proposed.

Board of Governors of the Federal Reserve System, October 27, 2021.
Michele Taylor Fennell,
Deputy Associate Secretary of the Board.

[FR Doc. 2021-23804 Filed 11-3-21; 8:45 am]

BILLING CODE 6210-01-P